DEPARTMENT OF HEALTH AND HUMAN SERVICES

Centers for Disease Control and Prevention

[60-Day-10-10GY]

Proposed Data Collections Submitted for Public Comment and Recommendations

In compliance with the requirement of Section 3506(c)(2)(A) of the Paperwork Reduction Act of 1995 to provide opportunity for public comment on proposed data collection projects, the Centers for Disease Control and Prevention (CDC) will publish periodic summaries of proposed projects. To request more information on the proposed projects or to obtain a copy of the data collection plans and instruments, call 404-639-5960 and send comments to Maryam I. Daneshvar, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Community Assessment and Engagement Process—New—Division of Health Assessment and Consultation (DHAC), Agency for Toxic Substances and Disease Registry (ATSDR), Centers for Disease Control and Prevention (CDC).

Background and Brief Description

ATSDR serves the public through responsive public health actions to promote healthy and safe environments and to prevent harmful exposures. To effectively implement ATSDR's programs, the agency works with communities by listening to and understanding their health concerns and seeking their guidance on where, when, and how to take public health actions. Communities in proximity to hazardous waste sites are concerned that they are being exposed to hazardous substances being released into the environment. Community assessment data will enable ATSDR to determine the perceived needs, concerns, values, and priorities of communities we serve and determine their willingness, interest and ability to participate in community engagement activities.

In order to secure this data, ATSDR will interview adult males and females ages 18 and over living near petitioned or National Priorities List sites. ATSDR will also identify health and other concerns and the most effective channels of communication and venues for engagement.

ATSDR staff will work with key stakeholders in communities to interview participants. These interviews will take the form of in-depth or telephone interviews with five audiences: General residential population (n = 600), public/private health care providers (n = 200), community leaders (n = 200), elected officials (n = 100), and industry leaders (n = 100).

In-depth Interviews will take place at the individual's residence, at a predetermined interview location, at ATSDR-sponsored town hall meetings, or other ATSDR-sponsored functions. Telephone interviews will take place at the individual's residence or business location. Findings from these interviews will be used to determine how ATSDR will engage the community in addressing environmental concerns. Interview findings will also help ATSDR reach as many of the members of the affected community as possible and ensure that all community members are given an opportunity to provide input to ATSDR regarding public health assessment and community involvement activities. There are no costs to the respondents other than their time.

Estimated Annualized Burden Hours
Type of respondents | Form name | Number of respondents | Responses per respondent | Average burden per response (in hours) | Total burden hours
General Resident | In-depth Interview/phone | 600 | 1 | 1.5 | 900
| Screener | 1,200 | 1 | 6/60 | 120
Health care provider | In-depth Interview/phone | 200 | 1 | .5 | 100 |  | Screener | 400 | 1 | 6/60 | 40
Community Leader | In-depth Interview/phone | 200 | 1 | 1.5 | 300 |  | Screener | 400 | 1 | 6/60 | 40
Elected Official | In-depth Interview/phone | 100 | 1 | .5 | 50
Industry | In-depth Interview/phone | 100 | 1 | .5 | 50
Total |  |  |  |  | 1,600

Dated: September 21, 2010.
Maryam I. Daneshvar,
Reports Clearance Officer, Centers for Disease Control and Prevention.

[FR Doc. 2010-24181 Filed 9-24-10; 8:45 am]

BILLING CODE 4163-18-P